DEPARTMENT OF AGRICULTURE

Grain Inspection, Packers and Stockyards Administration

[06-02-A]

Opportunity for Designation in the Sacramento (CA), Frankfort (IN), Indianapolis (IN), and Virginia Areas, and Request for Comments on the Official Agencies Serving These Areas

AGENCY: Grain Inspection, Packers and Stockyards Administration, USDA.

ACTION: Notice.

SUMMARY: The designations of the official agencies listed below will end in December 2006. Grain Inspection, Packers and Stockyards Administration (GIPSA) is asking persons interested in providing official services in the areas served by these agencies to submit an application for designation. GIPSA is also asking for comments on the quality of services provided by these currently designated agencies: California Agri Inspection Company, Ltd. (California Agri); Frankfort Grain Inspection, Inc. (Frankfort); Indianapolis Grain Inspection & Weighing Service, Inc. (Indianapolis); and Virginia Department of Agriculture and Consumer Services (Virginia).

DATES: Applications and comments must be received on or before July 14, 2006.

ADDRESSES: We invite you to submit applications and comments on this notice. You may submit applications and comments by any of the following methods:

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall terminate not later than triennially and may be renewed according to the criteria and procedures prescribed in section 7(f) of the Act.

1. Current Designations Being Announced for Renewal.

Official agency | Main office | Designation start | Designation end
California Agri | West Sacremento, CA | 06/01/2005 | 12/31/2006
Frankfort | Frankfort, IN | 01/01/2004 | 12/31/2006
Indianapolis | Indianapolis, IN | 01/01/2004 | 12/31/2006
Virginia | Richmond, VA | 01/01/2004 | 12/31/2006

a. Pursuant to section 7(f)(2) of the Act, the following geographic area, in the State of California, is assigned to California Agri.

Bounded on the North by the northern California State line east to the eastern California State line;

Bounded on the East by the eastern California State line south to the southern Mono County line;

Bounded on the South by the southern Mono, Tuolumne, Mariposa, Stanistaus, Santa Clara, San Benito, and Monterey County lines west to the western California State line; and

Bounded on the West by the western California State line north to the northern California State line.

California Agri's assigned geographic area does not include the export port locations inside California Agri's area which are serviced by GIPSA.

b. Pursuant to section 7(f)(2) of the Act, the following geographic area, in the State of Indiana, is assigned to Frankfort.

Bounded on the North by the northern Fulton County line;

Bounded on the East by the eastern Fulton County line south to State Route 19; State Route 19 south to State Route 114; State Route 114 southeast to the eastern Fulton and Miami County lines; the northern Grant County line east to County Highway 900E; County Highway 900E south to State Route 18; State Route 18 east to the Grant County line; the eastern and southern Grant County lines; the eastern Tipton County line; the eastern Hamilton County line south to State Route 32;

Bounded on the South by State Route 32 west to the Boone County line; the eastern and southern Boone County lines; the southern Montgomery County line; and

Bounded on the West by the western and northern Montgomery County lines; the western Clinton County line; the western Carroll County line north to State Route 25; State Route 25 northeast to Cass County; the western Cass and Fulton County lines.

Frankfort's assigned geographic area does not include the following grain elevators inside Frankfort's area which have been and will continue to be serviced by the following official agency: Titus Grain Inspection, Inc.: The Andersons, Delphi, Carroll County; Frick Services, Inc., Leiters Ford, Fulton County; and Cargill, Inc., Linden, Montgomery County.

c. Pursuant to section 7(f)(2) of the Act, the following geographic area, in the State of Indiana, is assigned to Indianapolis.

Bartholomew; Brown; Hamilton, south of State Route 32; Hancock; Hendricks; Johnson; Madison, west of State Route 13 and south of State Route 132; Marion; Monroe; Morgan; and Shelby Counties.

d. Pursuant to section 7(f)(2) of the Act, the following geographic area, the entire State of Virginia, is assigned to Virginia.

2. Opportunity for designation. Interested persons, including California Agri, Frankfort, Indianapolis, and Virginia, are hereby given the opportunity to apply for designation to provide official services in the geographic areas specified above under the provisions of section 7(f) of the Act and 7 CFR 800.196(d) of the regulations issued thereunder. Designation in the specified geographic areas is for the period beginning January 1, 2007, and ending December 31, 2009. Persons wishing to apply for designation should contact the Compliance Division at the address listed above for forms and information, or obtain applications at the GIPSA Web site, http://www.gipsa.usda.gov.

3. Request for Comments. GIPSA also is publishing this notice to provide interested persons the opportunity to present comments on the quality of services provided by the California Agri, Frankfort, Indianapolis, and Virginia official agencies. Substantive comments citing reasons and pertinent data for support or objection to the designation of the applicants will be considered in the designation process. All comments must be submitted to the Compliance Division at the above address.

Applications, comments, and other available information will be considered in determining which applicant will be designated.

Authority: Public Law 94-582, 90 Stat. 2867, as amended (7 U.S.C. 71 et seq.).

Gary McBryde,
Acting Administrator, Grain Inspection, Packers and Stockyards Administration.

[FR Doc. E6-9457 Filed 6-15-06; 8:45 am]

BILLING CODE 3410-EN-P